DEPARTMENT OF TRANSPORTATION

Federal Aviation Adminstration

Notice of Additional Comment Period on Draft Written Reevaluation

AGENCY: Federal Aviation Administration, DOT.

ACTION: Request for Comments.

SUMMARY: The Federal Aviation Administration (FAA) announces an additional comment period, closing on September 22, 2006, for a Draft Written Reevaluation of environmental impacts of a proposed centerfield taxiway at Boston-Logan International Airport, Boston, Massachusetts.

DATES: Send comments on or before September 22, 2006.

FOR FURTHER INFORMATION CONTACT: John C. Silva, Federal Aviation Administration, New England Region, Airports Division, ANE-600, 12 New England Executive Park, Burlington, Massachusetts 01803.

SUPPLEMENTARY INFORMATION: On August 2, 2002, FAA issued Record of Decision; Airside Improvements Planning Project; Logan International Airport; Boston, Massachusetts. This Record of Decision covered projects proposed by the Massachusetts Port Authority and environmentally assessed in an Environmental Impact Statement of the Airside Improvements Planning Project. FAA approved the following projects: (1) Construction and operation of unidirectional Runway 14-32, (2) reconfiguration of the southwest corner taxiway system, (3) extension of Taxiway Delta, and (4) realignment of Taxiway November. FAA deferred a decision concerning the Centerfield Taxiway until FAA conducted an additional evaluation of potential beneficial operational procedures that would preserve or improve the operational and environmental benefits of the Centerfield Taxiway shown in the Final EIS. This additional evaluation was completed with the publication of Logan International Airport; Additional Taxiway Evaluation Report; Per FAA August 2, 2002, Record of Decision; May 2006; and this draft written reevaluation. The taxiway evaluation report and Draft Written Reevaluation are available on request (781-238-7602) or on FAA's public Web site (http://www.faa.gov/airports_airtraffic). After considering input from the Massachusetts Port Authority, FAA has decided to establish an additional comment period in order to permit more thorough public participation. The new comment period for the Draft Written Reevaluation will close on September 22, 2006. Comments should be mailed to FAA at the above address under the heading: FOR FURTHER INFORMATION CONTACT. Questions may be directed to this address or by telephoning John Silva at 781-238-7602.

Dated: Issued in Burlington, Massachusetts on August 14, 2006.
Byron Rakoff,
Acting Manager, Airports Division.

[FR Doc. 06-7202 Filed 8-25-06; 8:45 am]

BILLING CODE 4910-13-M